FEDERAL COMMUNICATIONS COMMISSION

47 CFR Part 54

[WC Docket No. 21-93; DA 22-309; FR ID 80121]

Establishing Emergency Connectivity Fund To Close the Homework Gap

AGENCY: Federal Communications Commission.

ACTION: Final rule.

SUMMARY: In this document, the Wireline Competition Bureau (Bureau) announces that a third application filing window for the Emergency Connectivity Fund (ECF) Program will open on Thursday, April 28, 2022, and close on Friday, May 13, 2022. The Bureau anticipates that a minimum of $1 billion will be available for commitment and disbursement for this third window. In view of outstanding demand, eligible schools and libraries may request funding during this 15-day filing window for a maximum of 12 months of eligible services and equipment that will be received or delivered between July 1, 2022, and December 31, 2023. Accordingly, the Bureau also modifies the Federal Communication Commission's (Commission) ECF rules to establish December 31, 2023, as the service delivery date for equipment, other non-recurring services, and recurring services requests submitted during the third application filing window.

DATES: Effective April 4, 2022.

FOR FURTHER INFORMATION CONTACT: Molly O'Conor, Wireline Competition Bureau, (202) 418-7400 or by email at Molly.OConor@fcc.gov. The Federal Communications Commission (Commission or FCC) asks that requests for accommodations be made as soon as possible in order to allow the agency to satisfy such requests whenever possible. Send an email to fcc504@fcc.gov or call the Consumer and Governmental Affairs Bureau at (202) 418-0530.

SUPPLEMENTARY INFORMATION: This is a synopsis of the Bureau's Public Notice in WC Docket No. 21-93; DA 22-309, released March 23, 2022. Due to the COVID-19 pandemic, the Commission's headquarters will be closed to the general public until further notice. The full text of this document is available at the following internet address: https://www.fcc.gov/document/fcc-announces-third-ecf-application-window.

1. Pursuant to the authority delegated to the Bureau in the Emergency Connectivity Fund Report and Order, 86 FR 29136, May 28, 2021, the Bureau announces that a third application filing window for the ECF Program will open on Thursday, April 28, 2022, and close on Friday, May 13, 2022. The Bureau anticipates that a minimum of $1 billion will be available for commitment and disbursement for this third window. In view of outstanding demand, eligible schools and libraries may request funding during this 15-day filing window for a maximum of 12 months of eligible services and equipment that will be received or delivered between July 1, 2022, and December 31, 2023. Accordingly, the Bureau also modifies § 54.1711(e) of the Commission's rules to establish December 31, 2023, as the service delivery date for equipment, other non-recurring services, and recurring services requests submitted during the third application filing window.

2. As part of the American Rescue Plan Act of 2021, Congress appropriated $7.171 billion to the ECF and directed the Commission to promulgate rules providing for the distribution of funding to eligible schools and libraries for the purchase of eligible equipment and/or advanced telecommunications and information services for use by students, school staff, and library patrons at locations that include locations other than a school or library. On May 10, 2021, the Commission adopted a Report and Order establishing the rules for the ECF Program to distribute the funding to eligible schools and libraries. The Commission and the Universal Service Administrative Company (USAC) opened an initial 45-day application filing window from June 29, 2021, to August 13, 2021, and a second 15-day application filing window from September 28, 2021, to October 13, 2021. During the first two application filing windows, applicants could request funding for eligible equipment and services received or delivered between July 1, 2021, and June 30, 2022. On December 2, 2021, the Bureau established June 30, 2022, as the service delivery date for ECF requests for equipment, other non-recurring services, and recurring services submitted for the July 1, 2021, through June 30, 2022, funding period. Subsequently, in February 2022, the Bureau extended the service delivery date from June 30, 2022, to June 30, 2023, for funding requests for equipment and services submitted during the first and second application filing windows, recognizing that multiple factors outside of the applicants' control resulted in them having less time to use the funded equipment and services.

3. The Bureau will open a third application filing window to provide ECF support for eligible equipment and services received or delivered between July 1, 2022, and December 31, 2023, in light of the continuing demand for prospective equipment and services and ECF stakeholders' concerns about meeting the persisting unmet connectivity needs of students, school staff, and library patrons during the upcoming school year. Specifically, the Schools, Health & Libraries Broadband (SHLB) Coalition and the State E-rate Coordinators' Alliance (SECA) urged the Commission to open a third prospective filing window this spring to enable schools and libraries to receive “additional funding needed to continue engaging in online instruction to students and patrons in need” because it makes the “best policy sense to be forward looking and consider the future rather than the past needs of school students, educators, and library patrons.”

4. In the third application filing window, applicants can request support and reimbursement for a maximum of 12 months of costs associated with eligible equipment or services during the 18-month funding period (i.e., July 1, 2022, to December 31, 2023). In establishing an 18-month funding period, the Bureau seeks to maximize flexibility for applicants, allowing first and second window applicants the full benefit of their 12-month ECF funding commitments and ensuring continuity of service, regardless of their term of service. The Bureau expects that this approach will address requests by SHLB and SECA to tailor third window ECF funding requests based on the service end dates of existing ECF-supported services, while facilitating the efficient administration of the program by establishing a firm service delivery end date. The Bureau believes these actions will maximize the use of the limited ECF funds and allow applicants to continue to provide eligible equipment and services to their students, school staff, and library patrons who would otherwise be unable to fully engage in remote learning without the continuation of the ECF-supported services.

5. The Bureau also establishes December 31, 2023, as the service delivery date for equipment, other non-recurring services, and recurring services funding requests submitted in the third application filing window. As a result, the invoice filing deadline for these third window funding requests will be 60 days from the date of the funding commitment decision letter; a revised funding commitment decision letter approving a post-commitment change or a successful appeal of previously denied or reduced funding; or February 29, 2024 (i.e., 60 days after December 31, 2023), whichever is later. The Bureau reminds applicants seeking support for the construction of new networks or the provision of customer premises equipment for datacasting services that they will continue to have one year from the date of their funding commitment decision letter to demonstrate that construction is completed and the services have been provided.

6. Recognizing that the service delivery date for many first and second window ECF funding requests was extended to June 30, 2023, the Bureau emphasizes that applicants are not allowed to request duplicative funding during the third application filing window for equipment or services that are committed and were or will be funded through the applicant's first or second window funding requests. To avoid duplicative support and expedite the review of the third filing window applications, applicants should include in the narrative section of the ECF FCC Form 471 application information regarding services funded during the first or second filing windows, including the ECF FCC Form 471 application number(s) and the service end date(s) for any services funded during the first or second window that an applicant is seeking to continue between July 1, 2022, through December 31, 2023. If an applicant does not have any first or second window funding commitments that will be used to fund eligible equipment or services during the July 1, 2022, through December 31, 2023, funding period, the applicant should provide the service start and end dates for up to 12 months of service that will be requested on their ECF FCC Form 471. Applicants may only request support for up to 12 months of eligible services during the third application filing window that covers eligible equipment and services received or delivered between July 1, 2022, and December 31, 2023.

7. The Commission received over $6.4 billion in funding requests during the first and second ECF application filing windows. Therefore, in the event that demand exceeds available funding during the third ECF application filing window, the Bureau reminds applicants that requests will be prioritized based on applicants' E-Rate Program discount rate for category one services, adjusted to provide a five percent increase for rural schools and libraries.

8. The procedural rule modification for § 54.1711(e) is below. The Bureau makes this modification without notice and comment in accordance with the exception to the Administrative Procedure Act (APA), 5 U.S.C. 553(b)(3)(A), for procedural rules. The updated rule will become effective April 4, 2022.

List of Subjects in 47 CFR Part 54

Communications common carriers, Health facilities, Infants and children, Internet, Libraries, Puerto Rico, Reporting and recordkeeping requirements, Schools, Telecommunications, Telephone, Virgin Islands.

Federal Communications Commission.
Cheryl Callahan,
Assistant Chief, Telecommunications Access Policy Division, Wireline Competition Bureau.

Final Rule

For the reasons set forth above, the Federal Communications Commission amends 47 CFR part 54 as follows:

PART 54—UNIVERSAL SERVICE

1. The authority for part 54 continues to read as follows:

Authority: 47 U.S.C. 151, 154(i), 155, 201, 205, 214, 219, 220, 229, 254, 303(r), 403, 1004, 1302, 1601-1609, and 1752, unless otherwise noted.

2. Amend § 54.1711 by revising paragraph (e) to read as follows:

§ 54.1711 Emergency Connectivity Fund requests for reimbursement.

* * * * *

(e) Service delivery date. (1) For the initial filing window set forth in § 54.1708(b) and second application filing window, the service delivery date for equipment, other non-recurring services, and recurring services is June 30, 2023.

(2) For the third application filing window and any subsequent filing windows covering funding for purchases made between July 1, 2022, and December 31, 2023, the service delivery date for equipment, other non-recurring services, and recurring services is December 31, 2023.

[FR Doc. 2022-07021 Filed 4-1-22; 8:45 am]

BILLING CODE 6712-01-P